NUCLEAR REGULATORY COMMISSION

[Docket Nos. 50-528, 50-529, 50-530; NRC-2009-0012]

Arizona Public Service Company Notice of Receipt and Availability of Application for Renewal of Palo Verde Nuclear Generating Station, Units 1, 2, and 3, Facility Operating Licenses Nos. NPF-41, NPF-51, NPF-74, for an Additional 20-Year Period

The U.S. Nuclear Regulatory Commission (NRC) has received an application, dated December 11, 2008, from Arizona Public Service Company, filed pursuant to section 103, of the Atomic Energy Act of 1954, as amended, and Title 10 of the Code of Federal Regulations Part 54 (10 CFR Part 54), to renew the operating licenses for the Palo Verde Nuclear Generating Station (PVNGS), Units 1, 2, and 3. Renewal of the licenses would authorize the applicant to operate each facility for an additional 20-year period beyond the period specified in the respective current operating licenses. The current operating licenses for PVNGS, Unit 1 (NPF-41), Unit 2 (NPF-51), and Unit 3 (NPF-74) expire on June 1, 2025, April 24, 2026, and November 25, 2027, respectively. Each unit is a Combustion Engineering pressurized water reactor. The station is located in Maricopa County, Arizona. The acceptability of the tendered application for docketing, and other matters including an opportunity to request a hearing, will be the subject of subsequent Federal Register notices.

Copies of the application are available to the public at the Commission's Public Document Room (PDR), located at One White Flint North, 11555 Rockville Pike, Rockville, Maryland 20852 or through the internet from the NRC's Agencywide Documents Access and Management System (ADAMS) Public Electronic Reading Room under Accession Number ML083510627. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail to pdr@nrc.gov.

A copy of the license renewal application for the PVNGS, Units 1, 2, and 3, is also available to local residents near the site at the Litchfield Park Branch Library, 101 West Wigwam Blvd., Litchfield Park, Arizona 85340.

Dated at Rockville, Maryland, this 12th day of January 2009.
For the Nuclear Regulatory Commission.
Brian E. Holian,
Director, Division of License Renewal, Office of Nuclear Reactor Regulation.

[FR Doc. E9-1138 Filed 1-16-09; 8:45 am]

BILLING CODE 7590-01-P